DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program, of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2021, through April 30, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Julie Parrish, Lexington, Kentucky, Court of Federal Claims No: 21-1149V

2. Alison Stiegler, Novato, California, Court of Federal Claims No: 21-1152V

3. Madelyn Malloy, Phoenix, Arizona, Court of Federal Claims No: 21-1153V

4. Hussein Ali Jabbar on behalf of F. A., St. Louis, Missouri, Court of Federal Claims No: 21-1155V

5. Victoria Thorn, Washington, District of Columbia, Court of Federal Claims No: 21-1156V

6. Neana Gatica, Orange, California, Court of Federal Claims No: 21-1158V

7. Barry Taerbaum, Glenview, Illinois, Court of Federal Claims No: 21-1159V

8. Dorinda K. Perez, Santa Clarita, California, Court of Federal Claims No: 21-1160V

9. Jeffrey Kaufman, Burlington, Vermont, Court of Federal Claims No: 21-1161V

10. Samantha O'Connell, Erie, Pennsylvania, Court of Federal Claims No: 21-1162V

11. Belarmina Flores-Ayala, Chowchilla, California, Court of Federal Claims No: 21-1163V

12. Alban Cooper, Washington, District of Columbia, Court of Federal Claims No: 21-1164V

13. Teresa Rivera on behalf of Estate of Angel Manuel Berrios Silva, Deceased, Englewood, New Jersey, Court of Federal Claims No: 21-1172V

14. Tamara E. Maynard, Lexington, Kentucky, Court of Federal Claims No: 21-1173V

15. Tom Thompson, Woodbury, Minnesota, Court of Federal Claims No: 21-1175V

16. Kyle Hirst, South San Francisco, California, Court of Federal Claims No: 21-1176V

17. Maurice Drayton, Green Bay, Wisconsin, Court of Federal Claims No: 21-1177V

18. Janet Hagos, San Jose, California, Court of Federal Claims No: 21-1181V

19. Christine Perkins, Iowa City, Iowa, Court of Federal Claims No: 21-1182V

20. Karen Zeisler, Toledo, Ohio, Court of Federal Claims No: 21-1184V

21. Miranda Chu, Vancouver, Washington, Court of Federal Claims No: 21-1185V

22. Loren K. Levy, Rancho Palos Verdes, California, Court of Federal Claims No: 21-1187V

23. Paul M. Kestel, Storm Lake, Iowa, Court of Federal Claims No: 21-1188V

24. Cori Bratley on behalf of J. M., Plano, Texas, Court of Federal Claims No: 21-1189V

25. Melly Grizzell, Las Vegas, Nevada, Court of Federal Claims No: 21-1191V

26. Nelson Ortiz, Washington, District of Columbia, Court of Federal Claims No: 21-1192V

27. Kenneth Onwubiko, North Phoenix, Arizona, Court of Federal Claims No: 21-1193V

28. Jamie Handley, Glendale, Arizona, Court of Federal Claims No: 21-1194V

29. Carolyn Hall, Matthews, North Carolina, Court of Federal Claims No: 21-1195V

30. Jasmin Flores, Boston, Massachusetts, Court of Federal Claims No: 21-1196V

31. Kimberly Benz, Greensburg, Pennsylvania, Court of Federal Claims No: 21-1197V

32. Alexia Pena, Los Angeles, California, Court of Federal Claims No: 21-1199V

33. James Quick, Cullman, Alabama, Court of Federal Claims No: 21-1201V

34. Jamie Myers on behalf of A.C., Spokane, Washington, Court of Federal Claims No: 21-1205V

35. Carol Jenkins, Washington, District of Columbia, Court of Federal Claims No: 21-1206V

36. Elizabeth Gompf, Washington, District of Columbia, Court of Federal Claims No: 21-1207V

37. Lisa A. Brancheau, Riverview, Michigan, Court of Federal Claims No: 21-1209V

38. Brian Tacher, Cape Coral, Florida, Court of Federal Claims No: 21-1213V

39. Ashley Baldwin, Athens, Texas, Court of Federal Claims No: 21-1215V

40. Sharon Kantner, Washington, District of Columbia, Court of Federal Claims No: 21-1216V

41. Mikhail Roubakha, Chicago, Illinois, Court of Federal Claims No: 21-1217V

42. Latisha Beach, Morristown, Tennessee, Court of Federal Claims No: 21-1218V

43. Stephanie Brooks, Charlotte, North Carolina, Court of Federal Claims No: 21-1219V

44. Thomas Kenny, Philadelphia, Pennsylvania, Court of Federal Claims No: 21-1221V

45. Amorette M. Burgess, Beachwood, Ohio, Court of Federal Claims No: 21-1222V

46. Nikki Hysong-Wiggins, Washington, District of Columbia, Court of Federal Claims No: 21-1224V

47. Howard Beech, Boscobel, Wisconsin, Court of Federal Claims No: 21-1225V

48. Brooke Offhaus, Merced, California, Court of Federal Claims No: 21-1226V

49. Savannah Sharpe, San Mateo, California, Court of Federal Claims No: 21-1228V

50. Adwoa Ampofo-Addo, Oakwood Village, Illinois, Court of Federal Claims No: 21-1231V

51. Karon Matheny, Hartford, Alabama, Court of Federal Claims No: 21-1232V

52. Eva Magana, Salinas, California, Court of Federal Claims No: 21-1234V

53. Helen Brummett, Fuquay-Varina, North Carolina, Court of Federal Claims No: 21-1235V

54. Jadon Espinosa, Cape Coral, Florida, Court of Federal Claims No: 21-1236V

55. Jack Robert Day, Cleveland, Ohio, Court of Federal Claims No: 21-1237V

56. Tina Michelle Grubbs-Roberts, Gainesville, Georgia, Court of Federal Claims No: 21-1238V

57. Abraham Klein and Shifra Kahan on behalf of C.K., New York, New York, Court of Federal Claims No: 21-1239V

58. Jessica Willey, Chittenango, California, Court of Federal Claims No: 21-1240V

59. Matthew Dupleasis, Waupun, Wisconsin, Court of Federal Claims No: 21-1241V

60. Elizabeth D'Alessio, Aurora, Illinois, Court of Federal Claims No: 21-1242V

61. Brittany Moore on behalf of S.J.M., Mobile, Alabama, Court of Federal Claims No: 21-1244V

62. Margo Ramarui, Washington, District of Columbia, Court of Federal Claims No: 21-1245V

63. Amanda Farlin, Akron, Ohio, Court of Federal Claims No: 21-1247V

64. Hilda Leon Alvarado, Villalba, Puerto Rico, Court of Federal Claims No: 21-1248V

65. Karen Barrera, Weslaco, Texas, Court of Federal Claims No: 21-1249V

66. Joseph Savino, Ronkonkoma, New York, Court of Federal Claims No: 21-1250V

67. Anne Zaratsian, Beachwood, Ohio, Court of Federal Claims No: 21-1251V

68. Raviraj Bhatane, Santa Clara, California, Court of Federal Claims No: 21-1252V

69. Glendaly Ramos Rodriguez, Vega Alta, Puerto Rico, Court of Federal Claims No: 21-1253V

70. Gary Neary, Brooklyn, New York, Court of Federal Claims No: 21-1254V

71. Janet M. Engels, Queensbury, New York, Court of Federal Claims No: 21-1255V

72. Jodie Johnson, Mechanickville, New York, Court of Federal Claims No: 21-1256V

73. Christine M. Boyle, Akron, Ohio, Court of Federal Claims No: 21-1257V

74. Jerry Stewart, Tampa, Florida, Court of Federal Claims No: 21-1258V

75. Hugo Reyes, Providence, Rhode Island, Court of Federal Claims No: 21-1259V

76. Richard Pollack, Winchester, Virginia, Court of Federal Claims No: 21-1262V

77. Rene Baldi, Timonium, Maryland, Court of Federal Claims No: 21-1264V

78. Jennifer Silacci, Boulder, Colorado, Court of Federal Claims No: 21-1265V

79. Laura McGowen, Bryant, Arkansas, Court of Federal Claims No: 21-1266V

80. Allison Bay, Phoenix, Arizona, Court of Federal Claims No: 21-1267V

81.Kimberly Hartline,Ellicott City, Maryland, Court of Federal Claims No: 21-1269V

82. Bernice Edmonds, Jacksonville, Florida, Court of Federal Claims No: 21-1274V

83. Elaine Lambert, Nashua, New Hampshire, Court of Federal Claims No: 21-1275V

84. Isaiah Guy, Boscobel, Wisconsin, Court of Federal Claims No: 21-1276V

85. Sandra Yockteng, Boca Raton, Florida, Court of Federal Claims No: 21-1277V

86. Eve Y. Thao, Milwaukee, Wisconsin, Court of Federal Claims No: 21-1280V

87. Clarence Reynolds, Washington, District of Columbia, Court of Federal Claims No: 21-1284V

88. Cheryl Larson, Washington, District of Columbia, Court of Federal Claims No: 21-1285V

89. Megan Laughlin, Washington, District of Columbia, Court of Federal Claims No: 21-1286V

90. Joseph Behlke, Phoenix, Arizona, Court of Federal Claims No: 21-1287V

91. Roccalina Maragliano, Everett, Washington, Court of Federal Claims No: 21-1290V

92. Sandra Buysse, Jasper, Minnesota, Court of Federal Claims No: 21-1291V

93. Mikayla Vacher, Phoenix, Arizona, Court of Federal Claims No: 21-1294V

94. David Drapiewski, Seattle, Washington, Court of Federal Claims No: 21-1296V

95. William Lewis, New York, New York, Court of Federal Claims No: 21-1298V

96. Peter Presson, Portland, Oregon, Court of Federal Claims No: 21-1299V

97. Lori Brust, Massapequa, New York, Court of Federal Claims No: 21-1300V

98. Mark Peters, Marshfield, Wisconsin, Court of Federal Claims No: 21-1301V

99. Carol Winston, Chicago, Illinois, Court of Federal Claims No: 21-1302V

100. Brian Korpacz, Phoenix, Arizona, Court of Federal Claims No: 21-1303V

[FR Doc. 2021-10337 Filed 5-14-21; 8:45 am]

BILLING CODE 4165-15-P